DEPARTMENT OF COMMERCE

Bureau of Industry and Security

[Docket No.: 050302054-5054-01]

Meeting With Interested Public on Humanitarian Shipments to Sudan

AGENCY: Bureau of Industry and Security, Department of Commerce.

ACTION: Notice of open meeting.

SUMMARY: The Bureau of Industry and Security (BIS) publishes this notice to announce that the agency will hold a meeting on March 28, 2005 for organizations interested in exporting “tools of trade” items for humanitarian work in Sudan under a License Exception, as provided under the rule BIS published in the Federal Register on February 18, 2005. U.S. Government officials will provide information at this meeting on the use of this License Exception for Sudan. This meeting is open to the public.

DATES: The meeting will be held on March 28, 2005, 2 p.m. e.s.t.

ADDRESSES: If you wish to attend the meeting, please provide your name and company or organizational affiliation to fax numbers (202) 482-4145 or (202) 482-6088, Attn: Sudan Briefing, or call (202) 482-5537. The meeting will be held at the Herbert C. Hoover Building, 14th Street between Constitution and Pennsylvania Avenues, NW., Room 4830, Washington, DC.

FOR FURTHER INFORMATION CONTACT: For further information, please contact Eric Longnecker at BIS on (202) 482-5537 or (202) 482-4252.

SUPPLEMENTARY INFORMATION: On February 18, 2005, the Bureau of Industry and Security (BIS) published a Final Rule in the Federal Register that allows certain organizations working to relieve human suffering in Sudan, including those registered with the Department of the Treasury's Office of Foreign Assets Control (OFAC) pursuant to the Sudanese Sanctions Regulations (31 CFR 538.521), as well as their staff and employees, to use the authority of License Exception TMP (15 CFR 740.9) to export to Sudan certain “tools of trade” items which would otherwise requiring a license from BIS for export to Sudan pursuant to the Export Administration Regulations (15 CFR parts 730-774). As set forth in the February 18, 2005 rule, the newly-added provisions will authorize certain organizations working to relieve human suffering in Sudan to export basic telecommunications equipment, computers, global positioning system (GPS) or similar satellite receivers, and software and parts and components for the use of these items. Eligible goods may be exported to Sudan for up to one year. These items, and the restrictions on the use of this provision, are described in more detail in the February 18, 2005 rule.

In order to provide more information on the use of this License Exception for Sudan, BIS will hold a meeting on March 28, 2005. This meeting is open to the public. In order to prepare for those of you who plan to attend the meeting, please submit your name and company or organizational affiliation to BIS via fax or phone number provided in the ADDRESSES section.

Dated: March 4, 2005.
Eileen Albanese,
Director, Office of Exporter Services, Bureau of Industry and Security.

[FR Doc. 05-4737 Filed 3-9-05; 8:45 am]

BILLING CODE 3510-JT-M